NUCLEAR REGULATORY COMMISSION

Agency Information Collection Activities: Submission for the Office of Management and Budget (OMB) Review; Comment Request

AGENCY: U. S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on January 31, 2008.

1. Type of submission, new, revision, or extension: Extension.

2. The title of the information collection: 10 CFR 81, “Standard Specifications for Granting of Patent Licenses.”

3. Current OMB approval number: 3150-0121.

4. The form number if applicable: Not applicable.

5. How often the collection is required: Applications for licenses are submitted once. Other reports are submitted annually or as other events require.

6. Who will be required or asked to report: Applicants for and holders of NRC licenses to NRC inventions.

7. An estimate of the number of annual responses: 1.

8. The estimated number of annual respondents: 1.

9. An estimate of the total number of hours needed annually to complete the requirement or request: 37; however, no applications are anticipated during the next three years.

10. Abstract: As specified in 10 CFR part 81, the NRC may grant non-exclusive licenses or limited exclusive licenses to its patented inventions to responsible applicants. Applicants for licenses to NRC inventions are required to provide information which may provide the basis for granting the requested license. In addition, all license holders must submit periodic reports on efforts to bring the invention to a point of practical application and the extent to which they are making the benefits of the invention reasonably accessible to the public. Exclusive license holders must submit additional information if they seek to extend their licenses, issue sublicenses, or transfer the licenses. In addition, if requested, exclusive license holders must promptly supply to the United States Government copies of all pleadings and other papers filed in any patent infringement lawsuit, as well as evidence from proceedings relating to the licensed patent.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by May 30, 2008. Comments received after this date will be considered if it is practical to do so, but assurance of consideration cannot be given to comments received after this date. Nathan J. Frey, Office of Information and Regulatory Affairs (3150-0121), NEOB-10202, Office of Management and Budget, Washington, DC 20503.

Comments can also be e-mailed to Nathan_J._Frey@omb.eop.gov or submitted by telephone at (202) 395-7345.

The NRC Clearance Officer is Margaret A. Janney, (301) 415-7245.

Dated at Rockville, Maryland, this 23rd day of April, 2008.
For the Nuclear Regulatory Commission.
Gregory Trussell,
Acting NRC Clearance Officer, Office of Information Services.

[FR Doc. E8-9449 Filed 4-29-08; 8:45 am]

BILLING CODE 7590-01-P